FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011647-002.

Title: AMPAC/Lauritzen Space Charter Agreement.

Parties: Mexican Line Limited

LauritzenCool AB

Maruba S.C.A.

Hamburg-Südamerikanische Dampfschifffahrts-Gesellschaft KG

Synopsis: The agreement amendment adjusts allocations for the movement of empty containers by Lauritzen, deletes superfluous dates, and clarifies vessel strings under the agreement.

Agreement No.: 011755.

Title: APL/CSAV Slot Transfer Agreement.

Parties: American President Lines, Ltd.

APL Co. PTE Ltd.

Compania Sud Americana de Vapores S.A.

Synopsis: The proposed agreement authorizes APL to sell slots to CSAV in the trades between U.S. Gulf Coast ports and ports in the Dominican Republic, Mexico, Costa Rica, Panama, and the Caribbean coast of Colombia and Venezuela. The parties request expedited review.

Agreement No.: 011756.

Title: New World Alliance/Evergreen Slot Agreement.

Parties: American President Lines, Ltd.

APL Co. PTE Ltd.

Evergreen Marine Corp. (Taiwan) LTD.

Hyundai Merchant Marine Co. Ltd.

Mitsui O.S.K. Lines, Ltd.

Synopsis: The proposed agreement authorizes the exchange or sale of space among the parties in the trades between U.S. East and West Coast ports and ports in the Far East and Central America. The parties request expedited review.

Agreement No.: 201117.

Title: Philadelphia/Astro/Holt/Holt Hauling/Pasha Settlement Agreement.

Parties: Philadelphia Regional Port Authority

Astro Holdings, Inc.

Holt Cargo Systems, Inc.

Holt Hauling and Warehousing Systems, Inc.

Pasha Auto Warehousing, Inc.

Synopsis: The agreement, among other things, provides for scheduling and coordinating vessel operations for berthing vessels at Pier 96 South and the Packer Avenue Marine Terminal. The agreement is part of a proposed settlement among the parties in connection with a complaint proceeding before the Commission, Holt Cargo Systems, Inc., et al. v. Delaware River Port Authority, et al., FMC Docket No. 96-13.

Dated: March 23, 2001.
By Order of the Federal Maritime Commission.
Bryant L. VanBrakle,
Secretary.

[FR Doc. 01-7689 Filed 3-28-01; 8:45 am]

BILLING CODE 6730-01-P